DEPARTMENT OF COMMERCE

National Oceanic and Atmospheric Administration

[RTID 0648-XF198]

Pacific Fishery Management Council; Public Meeting

AGENCY: National Marine Fisheries Service (NMFS), National Oceanic and Atmospheric Administration (NOAA), Commerce.

ACTION: Notice of public meeting.

SUMMARY: The Pacific Fishery Management Council's (Pacific Council) Groundfish Subcommittee of the Scientific and Statistical Committee (SSC) will hold a meeting to review additional analyses of 2025 groundfish stock assessments and other requests from the September 2025 Pacific Council meeting. This meeting is open to the public.

DATES: The meeting will be held Tuesday, October 14, 2025 from 1 p.m. (Pacific Daylight Time) until business for the day has been completed, and will continue through Friday, October 17, 2025 from 9 a.m. until 5 p.m. or when business for the day has been completed.

ADDRESSES: The SSC Groundfish Subcommittee meeting will be held at the Watertown Hotel, 4242 Roosevelt Way NE, Seattle, Washington 98105; telephone (206) 826-4242.

The meeting is being conducted in person with a web broadcast that provides the opportunity for remote listening and public comment. Specific meeting information, materials, and instructions for how to connect to the meeting remotely will be provided in the meeting announcement on the Pacific Council's website (see www.pcouncil.org). In the event an outage occurs, or technical issues arise that impact the experience of remote attendees, we will attempt to resolve them but ultimately, we cannot guarantee that they will be resolved satisfactorily. Please contact Kris Kleinschmidt (kris.kleinschmidt@pcouncil.org) or (503) 820-2412 for technical assistance.

Council address: Pacific Fishery Management Council, 7700 NE Ambassador Place, Suite 101, Portland, Oregon 97220.

FOR FURTHER INFORMATION CONTACT: Marlene A. Bellman, Staff Officer, Pacific Council; telephone: (503) 820-2414, email: marlene.bellman@pcouncil.org.

SUPPLEMENTARY INFORMATION: The SSC Groundfish Subcommittee will review any further analyses for 2025 groundfish stock assessments as requested by the Pacific Council at their September 2025 meeting. The Groundfish Subcommittee will prepare their recommendations for SSC and Pacific Council consideration at their November 2025 meetings.

Although non-emergency issues not contained in the meeting agendas may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Kris Kleinschmidt (kris.kleinschmidt@pcouncil.org; (503) 820-2412) at least 10 days prior to the meeting date.

Dated: September 12, 2025.
Becky J. Curtis,
Acting Deputy Director, Office of Sustainable Fisheries, National Marine Fisheries Service.

[FR Doc. 2025-17907 Filed 9-15-25; 8:45 am]

BILLING CODE 3510-22-P